DEPARTMENT OF THE INTERIOR

Fish and Wildlife Service

Notice of Availability of the Running Buffalo Clover (Trifolium stoloniferum) Draft Recovery Plan: First Revision for Review and Comment

AGENCY: Fish and Wildlife Service, Interior.

ACTION: Notice of document availability.

SUMMARY: The U.S. Fish and Wildlife Service (Service) announces that the draft revised recovery plan for running buffalo clover (Trifolium stoloniferum) is available for public review and comment. This species is federally listed as endangered under the Endangered Species Act of 1973 (Act), as amended (16 U.S.C. 1531 et seq.). Currently populations occur in West Virginia, Ohio, Kentucky, Indiana, and Missouri. The Service solicits review and comment from the public on this draft plan.

DATES: Comments on the draft recovery plan received on or before October 11, 2005 will be considered by the Service.

ADDRESSES: Persons wishing to review the draft recovery plan may obtain a copy by contacting the Field Supervisor, U.S. Fish and Wildlife Service, 6950 Americana Parkway, Suite H, Reynoldsburg, Ohio 43068-4127, telephone (614) 469-6923, or by accessing the Web site: http://midwest.fws.gov/Endangered. The e-mail address for submitting electronic comments is: running_buffalo_clover@fws.gov.

FOR FURTHER INFORMATION CONTACT: Ms. Sarena M. Selbo at the above address and telephone (ext. 17). TTY users may contact Ms. Selbo through the Federal Relay Service at (800) 877-8339.

SUPPLEMENTARY INFORMATION:

Background

Restoring an endangered or threatened animal or plant to the point where it is again a secure, self-sustaining member of its ecosystem is a primary goal of the Service's endangered species program. To help guide the recovery effort, the Service is working to prepare recovery plans for most of the federally threatened and endangered species native to the United States. Recovery plans describe actions considered necessary for conservation of the species, establish criteria for reclassification and delisting, and provide estimates of the time and cost for implementing the recovery measures.

The Act requires the development of recovery plans for listed species unless such a plan would not promote the conservation of a particular species. Section 4(f) of the Act, as amended in 1988, requires public notice and opportunity for public review and comment be provided during recovery plan development. The Service will consider all information presented during a public comment period prior to approval of each new or revised recovery plan. The Service and other Federal agencies will also take these comments into consideration in the course of implementing approved recovery plans.

Running buffalo clover was listed as endangered on July 6, 1987. The recovery plan was approved on July 8, 1989. This is the first recovery plan revision. Running buffalo clover formerly occurred from West Virginia to Kansas. It is currently extant in limited portions of Indiana, Kentucky, Ohio, Missouri, and West Virginia. Running buffalo clover occurs in mesic habitats of partial to filtered sunlight, where there is a prolonged pattern of moderate periodic disturbance, such as mowing, trampling, or grazing. It is most often found in regions underlain with limestone or other calcareous bedrock.

The primary threat to running buffalo clover is habitat alteration. Factors that contribute to this threat include forest succession and subsequent canopy closure, competition by invasive plant species, and catastrophic disturbance such as development or road construction. The elimination of bison and other large herbivores may also be a threat to this species because of the decrease in disturbance, soil enrichment, seed dispersal, and seed scarification that has resulted from their absence. In addition to these threats, inherent biological vulnerabilities of running buffalo clover include its reliance on pollinators, seed scarification, and dispersal mechanisms, as well as a dependence on disturbance.

Given the known threats and constraints, the recovery effort for running buffalo clover focuses primarily on increasing the number of protected and managed populations, determining the viability of existing populations, and research on the species' ecological requirements. Key to this strategy is the protection and management of various-sized populations of running buffalo clover throughout the species' geographic range. The recovery criteria and actions rely heavily on retaining and managing suitable habitat. A greater understanding of the biotic and abiotic needs of running buffalo clover is also key to the species' recovery.

Running buffalo clover will be considered for downlisting to threatened status when the likelihood of the species becoming extinct in the foreseeable future has been eliminated by the achievement of the following criteria:

1. Seventeen populations, in total, are distributed as follows: 1 A-ranked, 3 B-ranked, 3 C-ranked, and 10 D-ranked populations across at least 2 of the 3 regions in which running buffalo clover currently occurs (Appalachian, Bluegrass, and Ozark). Ranks are defined by both numbers of individuals present and habitat suitability. The number of populations required in each rank category is based on what would be necessary to achieve a 95% probability of persistence based on population viability analysis.

2. For each A-ranked and B-ranked population described in #1, population viability analysis indicates greater than 95% persistence within the next 20 years, or for any population that does not meet the 95% persistence standard, the population meets the definition of viable. For downlisting purposes, viability is defined as follows: A) flower production is occurring; B) the population is stable or increasing, based on at least 5 years of censusing and data analysis that reveals no significant decline in number of plants; and C) appropriate management techniques are in place.

3. The land on which each of the populations described in #1 occurs is owned by a government agency or private conservation organization that identifies maintenance of the species as one of the primary conservation objectives for the site and has demonstrated natural area management capabilities, or the site is protected by a permanent conservation easement or deed restriction that commits the landowner to habitat management for the species. Natural Resource Management Plans on Federal lands may be suitable for this criterion.

Running buffalo clover will be considered for delisting when the likelihood of the species becoming threatened in the foreseeable future has been eliminated by the achievement of the following criteria:

1. Thirty-four populations, in total, are distributed as follows: 2 A-ranked, 6 B-ranked, 6 C-ranked, and 20 D-ranked populations across at least 2 of the 3 regions in which running buffalo clover occurs (Appalachian, Bluegrass, and Ozark). The number of populations in each rank is based on twice the amount that would be required to achieve a 95% or greater probability of persistence; this number was doubled to ensure biological redundancy across the range of the species.

2. For each A-ranked and B-ranked population described in #1, population viability analysis indicates greater than 95% persistence within the next 20 years, or for any population that does not meet the 95% persistence standard, the population meets the definition of viable. For delisting purposes, viability is defined as follows: (A) flower production is occurring; (B) the population is stable or increasing, based on at least 10 years of censusing and data analysis that reveals no significant decline in number of plants; and (C) appropriate management techniques are in place.

3. Downlisting criterion #3 is met for all populations described in delisting criterion #1.

Additional detail on downlisting and delisting criteria is available in the draft recovery plan.

These criteria will be met through the following actions: conserve and manage running buffalo clover populations and the habitat on which they depend, define population regulation factors, conserve germplasm and genetic diversity, promote public understanding, and review and track recovery progress.

Public Comments Solicited

The Service solicits written comments on the recovery plan described. All comments received by the date specified will be considered prior to approval of the plan. Written comments and materials regarding the plan should be addressed to the Field Supervisor (see ADDRESSES). Comments and materials received will be available by appointment for public inspection during normal business hours at the above address.

Authority: The authority for this action is section 4(f) of the Endangered Species Act, 16 U.S.C. 1533(f).

Dated: July 12, 2005.
Wendi Weber,
Assistant Regional Director, Ecological Services, Region 3, Fort Snelling, Minnesota.

[FR Doc. 05-16009 Filed 8-11-05; 8:45 am]

BILLING CODE 4310-55-P